FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 3469NF.

Name: IEC (America) Inc.

Address: 2373 208th Street, Unit F-4, Torrance, CA 90501.

Date Revoked: October 31, 2013.

Reason: Failed to maintain valid bonds.

License No.: 004306F.

Name: International Transport Services, Inc.

Address: 19987 Commerce Parkway, Cleveland, OH 44130.

Date Revoked: October 12, 2013.

Reason: Failed to maintain a valid bond.

License No.: 8504N.

Name: Hyun Dae Trucking Co., Inc.

Address: 3022 S. Western Avenue, Los Angeles, CA 90018.

Date Revoked: November 30, 2013.

Reason: Failed to maintain a valid bond.

License No.: 11042N.

Name: TSJ Consolidators, Inc.

Address: 13737 Artesia Blvd., #107, Cerritos, CA 90703.

Date Revoked: November 8, 2013.

Reason: Voluntary Surrender of License.

License No.: 011263N.

Name: Bugatti Freight Int'l (USA) Inc.

Address: 150-40 183rd Street, Suite 208, Jamaica, NY 11413.

Date Revoked: November 16, 2013.

Reason: Failed to maintain a valid bond.

License No.: 015574N

Name: WW Messenger & Shipping Co.

Address: 150 Main Street, Unit 9, Orange, NJ 07050

Date Revoked: October 16, 2013.

Reason: Failed to maintain a valid bond.

License No.: 15663N.

Name: T.J.D. International, Inc.

Address: 150 River Road, Suite 4H, Montville, NJ 07045.

Date Revoked: October 3, 2013.

Reason: Failed to maintain a valid bond.

License No.: 16464N.

Name: NE.W.S. Transportation Co., Inc. dba NE.W.S. Express.

Address: 1161 Sandhill Avenue, Suite A, Carson, CA 90746

Date Revoked: October 14, 2013.

Reason: Failed to maintain a valid bond.

License No.: 16854N.

Name: YT Youngtrans, Inc. dba Youngtrans.

Address: 167-55 148th Avenue, Jamaica, NY 11434.

Date Revoked: November 18, 2013.

Reason: Voluntary Surrender of License.

License No.: 017603N.

Name: WP Logistics Inc.

Address: 18747 S. Laurel Park Road, Rancho Dominguez, CA 90220.

Date Revoked: November 4, 2013.

Reason: Voluntary Surrender of License.

License No.: 018270N.

Name: Montero Shipping Corp.

Address: 2341 Hoffman Street, Bronx, NY 10458.

Date Revoked: November 8, 2013.

Reason: Failed to maintain a valid bond.

License No.: 18567N.

Name: CL America, LLC.

Address: 18881 Von Karman Avenue, Suite 1450, Irvine, CA 92612.

Date Revoked: September 30, 2013.

Reason: Failed to maintain a valid bond.

License No.: 018732N.

Name: Transways Logistics International Inc.

Address: 149-23 183rd Street, Suite 101, Jamaica, NY 11413.

Date Revoked: September 30, 2013.

Reason: Failed to maintain a valid bond.

License No.: 018928N.

Name: Evergreen International Group, LLC.

Address: 1937 Pontius Avenue, Suite 301, Los Angeles, CA 90025.

Date Revoked: October 3, 2013.

Reason: Failed to maintain a valid bond.

License No.: 018958N.

Name: Transec International, Inc.

Address: 10306 NE 10th Street, Bellevue, WA 98004.

Date Revoked: October 23, 2013.

Reason: Failed to maintain a valid bond.

License No.: 019073F.

Name: Elizabeth A. Ohanneson dba Ohanneson Freight Forwarding

Address: 165 North Redwood Drive, Suite 201, San Rafael, CA 94903.

Date Revoked: October 29, 2013.

Reason: Failed to maintain a valid bond.

License No.: 019089N.

Name: Sys-Tems Logistix, Inc.

Address: 3850 Three Mile Lane NE., McMinnville, OR 97128.

Date Revoked: June 7, 2008.

Reason: Failed to maintain a valid bond.

License No.: 019563NF.

Name: Tarraf Inc. dba Tarraf Shipping.

Address: 15800 Tireman Street, Detroit, MI 48228.

Date Revoked: November 18, 2013.

Reason: Voluntary Surrender of License.

License No.: 019628NF.

Name: SBS Worldwide, Inc. dba SBS Worldwide (NYC) dba SBS Worldwide (CHS) dba SBS Worldwide Atlanta dba SBS Worldwide (Chicago).

Address: 100 Walnut Street, Suite 405, Clark, NJ 07066.

Date Revoked: November 18, 2013.

Reason: Voluntary Surrender of License.

License No.: 019703N.

Name: Taurus Line, Inc. dba Taurus Marine Line

Address: 17110 Royal Palm Blvd., Suite 3, Weston, FL 33326.

Date Revoked: November 7, 2013.

Reason: Voluntary Surrender of License.

License No.: 019901N.

Name: Ambiorix Cargo Express Inc.

Address: 453 East 167th Street, Bronx, NY 10456.

Date Revoked: October 16, 2013.

Reason: Failed to maintain a valid bond.

License No.: 020274N.

Name: United Presidents Line, Inc.

Address: 2698 Junipero Avenue, Suite 118, Signal Hills, CA 90755.

Date Revoked: October 31, 2013.

Reason: Failed to maintain a valid bond.

License No.: 020953F.

Name: Gold Cargo Freight, Corp.

Address: 8233 NW 68th Street, Miami, FL 33166.

Date Revoked: October 13, 2013.

Reason: Failed to maintain a valid bond.

License No.: 020992N.

Name: Korea International Logistics Co., Ltd.

Address: 1418 Beaver Ruin Road, Norcross, GA 30093.

Date Revoked: November 8, 2013.

Reason: Failed to maintain a valid bond.

License No.: 022188NF.

Name: Optima Cargo & Logistics Inc. dba Optima Express.

Address: 9428 NW 13th Street, Bay #53, Doral, FL 33172.

Date Revoked: OFF—December 8, 2013 & NVOCC—November 22, 2013.

Reason: Failed to maintain valid bonds.

License No.: 022418NF

Name: Manray Express Freight Systems, Inc.

Address: 7000 NW 32nd Avenue, Miami, FL 33147.

Date Revoked: November 14, 2013.

Reason: Failed to maintain valid bonds.

License No.: 022506NF.

Name: Daudry Business Group, Corp dba Don Envion dba Adam Logistics.

Address: 5463 NW 72nd Avenue, Miami, FL 33166.

Date Revoked: October 24, 2013.

Reason: Failed to maintain valid bonds.

License No.: 022604N.

Name: Tri-Vi-U.S. Logistics Ltd.

Address: 170 E. Sunrise Highway, Valley Stream, NY 11580.

Date Revoked: October 3, 2013.

Reason: Failed to maintain a valid bond.

License No.: 023467F.

Name: Freightmate NY Inc.

Address: 146 Spencer Street, Suite 4005, Brooklyn, NY 11205.

Date Revoked: November 20, 2013.

Reason: Failed to maintain a valid bond.

License No.: 023518F.

Name: Bulk Cargo Services & Logistics Inc.

Address: 15400 NE. 103rd Drive, Vancouver, WA 98682.

Date Revoked: November 27, 2013.

Reason: Failed to maintain a valid bond.

License No.: 023604F.

Name: Caterpillar Logistics Services LLC.

Address: 7915 North Hale Avenue, Peoria, IL 61615.

Date Revoked: November 22, 2013.

Reason: Failed to maintain a valid bond.

License No.: 023613F.

Name: NGL International, LLC.

Address: 2121 Abbott Road, Suite 202, Anchorage, AK 99507.

Date Revoked: October 18, 2013.

Reason: Failed to maintain a valid bond.

License No.: 023959F.

Name: Master Transportation Cargo, LLC.

Address: 9600 NW 38th Street, Suite 310, Doral, FL 33178.

Date Revoked: October 18, 2013.

Reason: Failed to maintain a valid bond.

License No.: 024070F.

Name: Mohammad A. Bagegni dba Coastal Auto Exporters.

Address: 23 Balcom Road, Pelham, NH 03076.

Date Revoked: November 16, 2013.

Reason: Failed to maintain a valid bond.

License No.: 024098N.

Name: Albarq Shipping Services Inc.

Address: 8151 Electric Avenue, Stanton, CA 90680.

Date Revoked: October 23, 2013.

Reason: Failed to maintain a valid bond.

License No.: 024117N.

Name: A & E Logistics, Inc.

Address: 3011 S. Poplar Avenue, Chicago, IL 60608.

Date Revoked: November 28, 2013.

Reason: Failed to maintain a valid bond.

License No.: 024166NF.

Name: US Com Express, LLC.

Address: 1420 Francisco Street, Torrance, CA 90501.

Date Revoked: October 4, 2013.

Reason: Failed to maintain valid bonds.

License No.: 024540NF.

Name: GB America, LLC.

Address: 19100 Von Karman Avenue, Suite 370, Irvine, CA 92612.

Date Revoked: September 30, 2013.

Reason: Failed to maintain valid bonds.

Sandra L. Kusumoto,
Director, Bureau of Certification and Licensing.

[FR Doc. 2014-02788 Filed 2-7-14; 8:45 am]

BILLING CODE 6730-01-P